SMALL BUSINESS ADMINISTRATION

Meeting of the Advisory Committee on Veterans Business Affairs

AGENCY: U.S. Small Business Administration.

ACTION: Notice of open Federal Advisory Committee Meeting.

SUMMARY: The U.S. Small Business Administration (SBA) is issuing this notice to announce the location, date, time, and agenda for the next meeting of the Advisory Committee on Veterans Business Affairs. The meeting is open to the public.

DATES: Thursday, March 9, 2017, from 9:00 a.m. to 4:00 p.m.

ADDRESSES: Eisenhower Conference Room B, located on the concourse level, U.S. Small Business Administration, 409 3rd Street SW., Washington, DC 20416.

SUPPLEMENTARY INFORMATION: Pursuant to section 10(a)(2) of the Federal Advisory Committee Act (5 U.S.C., Appendix 2), SBA announces the meeting of the Advisory Committee on Veterans Business Affairs (ACVBA). The ACVBA is established pursuant to 15 U.S.C. 657(b) note, and serves as an independent source of advice and policy recommendations to the Administrator of the SBA. The purpose of this meeting is to discuss the formation and growth of small business concerns owned and controlled by veterans and service disabled veterans, to focus on strategic planning, and provide updates on past and current events.

Additional Information: This meeting is open to the public. Advance notice of attendance is requested. Anyone wishing to attend and/or make comments to the ACVBA must contact SBA's Office of Veterans Business Development no later than March 6, 2017 at veteransbusiness@sba.gov. Comments for the record will be limited to five minutes in the interest of time and to accommodate as many participants as possible. Written comments should also be sent to the above email no later than March 6, 2017. Special accommodation requests should also be directed to SBA's Office of Veterans Business Development at (202) 205-6773 or veteransbusiness@sba.gov. For more information on veteran owned small business programs, please visit www.sba.gov/veterans.

Dated: January 11, 2017.
Miguel J. L Heureux,
SBA Committee Management Officer.

[FR Doc. 2017-00951 Filed 1-19-17; 8:45 am]

BILLING CODE 8025-01-P